DEPARTMENT OF ENERGY

Federal Energy Regulatory Commission

[Docket No. RP02-422-001]

Transwestern Pipeline Company; Notice of Compliance Filing

October 4, 2002.

Take notice that on September 30, 2002, Transwestern Pipeline Company (Transwestern) tendered for filing as part of its FERC Gas Tariff, Second Revised Volume No. 1, 6th Revised Sheet No. 50, to become effective October 1, 2002.

Transwestern states that on May 1, 2002, in Docket No. RM96-1-020, the Commission issued Order No. 587-O (Order), whereby the Commission amended its open access regulations that govern standards for conducting business and electronic communications with interstate pipelines. The Order, Transwestern states, required pipelines to make tariff filings by August 1, 2002, to implement provisions of the Order to become effective on October 1, 2002.

Transwestern states that it filed its 587-O Compliance filing on August 1, 2002 in Docket No. RP02-422-000. On September 16, 2002, the Commission issued the Compliance Filing Order in which Transwestern's Compliance filing was accepted subject to Transwestern reflecting NAESB Standard 5.3.24 Version 1.5 in its tariff. The instant filing adds the numeric reference of this Standard to Transwestern's tariff.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. The Commission strongly encourages electronic filings. See, 18 CFR 385.2001(a)(1)(iii) and the instructions on the Commission's Web site under the “e-Filing” link.

Magalie R. Salas,
Secretary.

[FR Doc. 02-25805 Filed 10-10-02; 8:45 am]

BILLING CODE 6717-01-P